DEPARTMENT OF COMMERCE

National Oceanic and Atmospheric Administration

50 CFR Part 648

[I.D. 102006A]

New England and Mid-Atlantic Fishery Management Councils; Public Hearings

AGENCY: National Marine Fisheries Service (NMFS), National Oceanic and Atmospheric Administration (NOAA), Commerce.

ACTION: Notice of public hearings; request for comments.

SUMMARY: The New England and Mid-Atlantic Fishery Management Councils (Councils) will convene public hearings and seek public comment on a draft amendment to all the fishery management plans (FMPs) under their purview. The omnibus amendment would establish standardized bycatch reporting methodology (SBRM) for each FMP, as required under the Magnuson-Stevens Fishery Conservation and Management Act (Magnuson-Stevens Act).

DATES: The public hearings will be on November 14, 2006, in Gloucester, MA, and December 12, 2006, in New York City, NY. Written comments must be received at the appropriate address, e-mail address, or fax number (see ADDRESSES) by 5 p.m., local time, on December 29, 2006.

ADDRESSES: NMFS and the Councils will accept comments at two public hearings. For specific locations, see SUPPLEMENTARY INFORMATION. You may submit comments on the draft amendment by any of the following methods:

• E-mail: SBRMcomment@noaa.gov

• Through the Federal eRulemaking portal: http://www.regulations.gov. Reference I.D. 102006A.

• Mail: Patricia A. Kurkul, Regional Administrator, NOAA Fisheries Service, Northeast Regional Office, 1 Blackburn Drive, Gloucester MA 01930. Mark the outside of the envelope: “Comments on SBRM Amendment.”

• Fax: (978) 281-9135, Attention: Patricia A. Kurkul.

Copies of the draft SBRM amendment and the public hearing document may be obtained by contacting the NMFS Northeast Regional Office at the above address. The documents are also available via the internet at: http://www.nero.noaa.gov/nero/regs/com.html.

FOR FURTHER INFORMATION CONTACT: Michael Pentony, Senior Fishery Policy Analyst, (978) 281-6283.

SUPPLEMENTARY INFORMATION: Section 303(a)(11) of the Magnuson-Stevens Act requires each FMP to include provisions establishing “a standardized reporting methodology to assess the amount and type of bycatch occurring in the fishery.” The Councils and NMFS are considering an omnibus amendment to establish an SBRM or modify existing SBRMs under every Northeast Region FMP. The purpose of the amendment is to explain the methods and processes by which bycatch is currently monitored and assessed for Northeast Region fisheries, to determine whether these methods and processes need to be modified and/or supplemented, to establish standards of precision for bycatch estimation for all Northeast Region fisheries and, thereby, to document the SBRM established for all fisheries managed through the FMPs of the Northeast Region. The scope of the omnibus amendment is limited to those fisheries prosecuted in the Federal waters of the Northeast Region and managed through an FMP developed by either the Mid-Atlantic or New England Council.

Alternatives under consideration in the omnibus SBRM amendment address bycatch reporting and monitoring mechanisms, analytical techniques and allocation of at-sea fishery observers, establishment of a target level for precision of bycatch estimates, and requirements for reviewing and reporting on the efficacy of the SBRM. NMFS and the Councils will consider all comments received on the draft SBRM amendment and the alternatives for incorporation into the final document until the end of the comment period on December 29, 2006. The public will have several additional opportunities to comment on the SBRM. The final amendment will be considered for approval by the Councils at public meetings in February of 2007. Once submitted to NMFS, the final SBRM Amendment will be made available for public review and comment, and regulations will be proposed for review and comment in March 2007.

Meeting Dates, Times, and Locations

The public hearings have been scheduled to coincide with the date and location of New England and Mid-Atlantic Fishery Management Council meetings.

Tuesday, November 14, 2006, at 5:30 p.m. - Tavern on the Harbor, 30 Western Ave., Gloucester, MA 01930, telephone: (978) 283-4200.

Tuesday, December 12, 2006, at 7 p.m. - Skyline Hotel, 725 10th Ave, New York, NY 10019, telephone: (212) 586-3400.

Special Accommodations

These hearings are physically accessible to people with disabilities. Requests for sign language interpretation or other auxiliary aids at the Gloucester, MA, meeting should be directed to Paul J. Howard, Executive Director, New England Fishery Management Council, 50 Water Street, Mill 2, Newburyport, MA 01950. Requests for such services at the New York, NY, meeting should be directed to M. Jan Saunders, (302) 674 2331 extension 18. Requests for accessibility accommodations must be received at least at least 5 days prior to the meeting dates.

Authority: 16 U.S.C. 1801 et seq.

Dated: October 25, 2006.
Alan D. Risenhoover,
Director, Office of Sustainable Fisheries, National Marine Fisheries Service.

[FR Doc. E6-18286 Filed 10-30-06; 8:45 am]

BILLING CODE 3510-22-S